DEPARTMENT OF COMMERCE

National Oceanic and Atmospheric Administration

[I.D. 052604B]

Fisheries of the Exclusive Economic Zone Off Alaska; Groundfish Fisheries Management in the Bering Sea and Aleutian Islands Management Area and the Gulf of Alaska

AGENCY: National Marine Fisheries Service (NMFS), National Oceanic and Atmospheric Administration (NOAA), Commerce.

ACTION: Notice of availability; request for comments.

SUMMARY: The North Pacific Fishery Management Council (Council) has submitted for Secretary of Commerce (Secretary) review Amendment 81 to the Fishery Management Plan (FMP) for the Groundfish Fishery of the Bering Sea and Aleutian Islands Area (BSAI) and Amendment 74 to the FMP for Groundfish of the Gulf of Alaska (GOA). If approved, the amendments would implement a new management policy by revising the goals and objectives of the management of the groundfish fisheries. The goals and objectives would provide for a new ecosystem-based management framework that would serve as the management policy for the groundfish fisheries into the future. This action will promote the goals and objectives of the Magnuson-Stevens Fishery Conservation and Management Act (Magnuson-Stevens Act), the FMPs, and other applicable laws. Comments from the public are welcome.

DATES: Comments on Amendments 81 and 74 must be submitted by August 2, 2004.

ADDRESSES: Send comments to Sue Salveson, Assistant Regional Administrator, Sustainable Fisheries Division, Alaska Region, NMFS, Attn: Lori Durall. Comments may be submitted by:

• Mail to P.O. Box 21668, Juneau, AK 99802;

• Hand delivery to the Federal Building, 709 West 9th Street, Room 420A, Juneau, AK;

• Fax to 907-586-7557; or

• E-mail to 8174-0648-AS14@noaa.gov. Include in the subject line of the e-mail comments the following document identifier: 81-74 NOA. E-mail comments, with or without attachments, are limited to 5 megabytes.

Copies of Amendments 81 and 74 and the Programmatic Supplemental Environmental Impact Statement (PSEIS) for the Alaska Groundfish Fisheries may be obtained from the NMFS Alaska Region at the address above or from the Alaska Region website at http://www.fakr.noaa.gov/sustainablefisheries/seis/default.htm.

FOR FURTHER INFORMATION CONTACT: Melanie Brown, 907-586-7228 or melanie.brown@noaa.gov.

SUPPLEMENTARY INFORMATION: The Magnuson-Stevens Act requires that each Regional Fishery Management Council submit any FMP amendment it prepares to the Secretary for review and approval, disapproval, or partial approval. The Magnuson-Stevens Act also requires that the Secretary, upon receiving an FMP amendment, immediately publish a notice in the Federal Register that the amendment is available for public review and comment.

The Council prepared and the Secretary approved the FMP for Groundfish of the GOA in 1978 and the FMP for the Groundfish Fishery of the BSAI in 1981. Both FMPs have been amended numerous times, and National Environmental Policy Act (NEPA) environmental documents have been prepared for each amendment.

In December 1998, NMFS issued an SEIS for the groundfish fisheries authorized by the FMPs. The U. S. District Court, Western District of Washington at Seattle (NO. C98-0492Z) ruled in Greenpeace v. NMFS that the 1998 SEIS was legally inadequate, and remanded the document to NMFS for further action consistent with the requirements of NEPA. After an extensive development and public review process, NMFS has completed a new PSEIS for the groundfish fisheries (see ADDRESSES). Amendments 81 and 74 are based on the preferred alternative in the PSEIS.

Amendments 81 and 74 were unanimously recommended by the Council in April 2004. If approved by the Secretary, these amendments would revise the goals and objectives of the FMPs to implement a new management policy for the groundfish fisheries. The new management policy would include consideration of community-based or rights-based management and ecosystem-based management principles that protect managed species from overfishing, and where appropriate and practicable, increase habitat protection and bycatch constraints. All management measures would be based on the best scientific information available. The fishery management goals are: (1) sound conservation of the living marine resources, (2) socially and economically viable fisheries and fishing communities, (3) minimal human-caused threats to protected species, (4) healthy marine resource habitat, and (5) ecosystem-based considerations in management decisions. To meet these goals and to focus the Council's consideration of potential management measures, Amendments 81 and 74 identify 45 objectives that are grouped under the following nine subjects: prevent overfishing; promote sustainable fisheries and communities; preserve the food web; manage incidental catch and reduce bycatch and waste; avoid impacts to seabirds and marine mammals; reduce and avoid impacts to habitat; promote equitable and efficient use of fishery resources; increase Alaska native consultation; and improve data quality, monitoring, and enforcement. The new management policy would begin to be implemented immediately upon Secretarial approval and would be applied to ongoing and future groundfish fisheries management. The new management policy also would include adaptive management with regular and periodic reviews, including annual review of the objectives.

Public comments are being solicited on proposed Amendments 81 and 74 through the end of the comment period stated (see DATES). All comments received by the end of the comment period on the amendments will be considered in the approval/partial approval/disapproval decision. Comments received after that date will not be considered in the approval/partial approval/disapproval decision on the amendments. To be considered, comments must be received not just postmarked or otherwise transmitted by the close of business on the last day of the comment period.

Dated: May 26, 2004.
Alan D. Risenhoover,
Acting Director, Office of Sustainable Fisheries, National Marine Fisheries Service.

[FR Doc. 04-12437 Filed 6-1-04; 8:45 am]

BILLING CODE 3510-22-S